NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 44 meetings of the Arts Advisory Panel to the National Council on the Arts will be held by teleconference or videoconference.

DATES: See the SUPPLEMENTARY INFORMATION section for individual meeting times and dates. All meetings are Eastern time and ending times are approximate:

ADDRESSES: National Endowment for the Arts, Constitution Center, 400 7th St. SW, Washington, DC 20506.

FOR FURTHER INFORMATION CONTACT: Further information with reference to these meetings can be obtained from David Travis, Office of Guidelines & Panel Operations, National Endowment for the Arts, Washington, DC 20506; travisd@arts.gov, or call 202-682-5001.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The upcoming meetings are:

Dance (review of applications): This meeting will be closed.

Date and time: November 1, 2023; 12:00 p.m. to 2:00 p.m.

Dance (review of applications): This meeting will be closed.

Date and time: November 1, 2023; 3:00 p.m. to 5:00 p.m.

Opera (review of applications): This meeting will be closed.

Date and time: November 2, 2023; 12:00 p.m. to 2:00 p.m.

Opera (review of applications): This meeting will be closed.

Date and time: November 2, 2023; 3:00 p.m. to 5:00 p.m.

Dance (review of applications): This meeting will be closed.

Date and time: November 3, 2023; 12:00 p.m. to 2:00 p.m.

Dance (review of applications): This meeting will be closed.

Date and time: November 3, 2023; 3:00 p.m. to 5:00 p.m.

Media Arts (review of applications): This meeting will be closed.

Date and time: November 7, 2023; 11:30 a.m. to 1:30 p.m.

Media Arts (review of applications): This meeting will be closed.

Date and time: November 7, 2023; 2:30 p.m. to 4:30 p.m.

Media Arts (review of applications): This meeting will be closed.

Date and time: November 8, 2023; 11:30 a.m. to 1:30 p.m.

Dance (review of applications): This meeting will be closed.

Date and time: November 8, 2023; 12:00 p.m. to 2:00 p.m.

Media Arts (review of applications): This meeting will be closed.

Date and time: November 8, 2023; 2:30 p.m. to 4:30 p.m.

Media Arts (review of applications): This meeting will be closed.

Date and time: November 9, 2023; 11:30 a.m. to 1:30 p.m.

Media Arts (review of applications): This meeting will be closed.

Date and time: November 9, 2023; 2:30 p.m. to 4:30 p.m.

Theater (review of applications): This meeting will be closed.

Date and time: November 9, 2023; 4:00 p.m. to 6:00 p.m.

Visual Arts (review of applications): This meeting will be closed.

Date and time: November 13, 2023; 11:30 a.m. to 1:30 p.m.

Music (review of applications): This meeting will be closed.

Date and time: November 13, 2023; 12:00 p.m. to 2:00 p.m.

Arts Education (review of applications): This meeting will be closed.

Date and time: November 13, 2023; 1:30 p.m. to 3:30 p.m.

Visual Arts (review of applications): This meeting will be closed.

Date and time: November 13, 2023; 2:30 p.m. to 4:30 p.m.

Music (review of applications): This meeting will be closed.

Date and time: November 13, 2023; 3:00 p.m. to 5:00 p.m.

Visual Arts (review of applications): This meeting will be closed.

Date and time: November 14, 2023; 11:30 a.m. to 1:30 p.m.

Theater (review of applications): This meeting will be closed.

Date and time: November 14, 2023; 1:00 p.m. to 3:00 p.m.

Arts Education (review of applications): This meeting will be closed.

Date and time: November 14, 2023; 1:30 p.m. to 3:30 p.m.

Visual Arts (review of applications): This meeting will be closed.

Date and time: November 14, 2023; 2:30 p.m. to 4:30 p.m.

Theater (review of applications): This meeting will be closed.

Date and time: November 14, 2023; 4:00 p.m. to 6:00 p.m.

Visual Arts (review of applications): This meeting will be closed.

Date and time: November 15, 2023; 11:30 a.m. to 1:30 p.m.

Music (review of applications): This meeting will be closed.

Date and time: November 15, 2023; 12:00 p.m. to 2:00 p.m.

Music (review of applications): This meeting will be closed.

Date and time: November 15, 2023; 3:00 p.m. to 5:00 p.m.

Media Arts (review of applications): This meeting will be closed.

Date and time: November 16, 2023; 11:30 a.m. to 1:30 p.m.

Visual Arts (review of applications): This meeting will be closed.

Date and time: November 16, 2023; 12:00 p.m. to 2:00 p.m.

Theater (review of applications): This meeting will be closed.

Date and time: November 16, 2023; 1:00 p.m. to 3:00 p.m.

Arts Education (review of applications): This meeting will be closed.

Date and time: November 16, 2023; 1:30 p.m. to 3:30 p.m.

Media Arts (review of applications): This meeting will be closed.

Date and time: November 16, 2023; 2:30 p.m. to 4:30 p.m.

Theater (review of applications): This meeting will be closed.

Date and time: November 16, 2023; 4:00 p.m. to 6:00 p.m.

Music (review of applications): This meeting will be closed.

Date and time: November 17, 2023; 12:00 p.m. to 2:00 p.m.

Music (review of applications): This meeting will be closed.

Date and time: November 17, 2023; 3:00 p.m. to 5:00 p.m.

Music (review of applications): This meeting will be closed.

Date and time: November 20, 2023; 12:00 p.m. to 2:00 p.m.

Literary Arts (review of applications): This meeting will be closed.

Date and time: November 20, 2023; 12:00 p.m. to 2:00 p.m.

Music (review of applications): This meeting will be closed.

Date and time: November 20, 2023; 3:00 p.m. to 5:00 p.m.

Literary Arts (review of applications): This meeting will be closed.

Date and time: November 20, 2023; 3:00 p.m. to 5:00 p.m.

Literary Arts (review of applications): This meeting will be closed.

Date and time: November 21, 2023; 12:00 p.m. to 2:00 p.m.

Our Town (review of applications): This meeting will be closed.

Date and time: November 29, 2023; 11:00 a.m. to 1:00 p.m.

Our Town (review of applications): This meeting will be closed.

Date and time: November 29, 2023; 2:30 p.m. to 4:30 p.m.

Our Town (review of applications): This meeting will be closed.

Date and time: November 30, 2023; 11:00 a.m. to 1:00 p.m.

Our Town (review of applications): This meeting will be closed.

Date and time: November 30, 2023; 2:30 p.m. to 4:30 p.m.

Dated: October 4, 2023.
David Travis,
Specialist, National Endowment for the Arts.

[FR Doc. 2023-22409 Filed 10-6-23; 8:45 am]

BILLING CODE 7537-01-P